NATIONAL SCIENCE FOUNDATION

Advisory Panel for Bimolecular Processes; Meeting

In accordance with the Federal Advisory Committee Act (Pub. L. 92-463, as amended), the National Science Foundation announces the following meeting.

Name: Advisory Panel for Biomolecular Processes (5138) (Panel B)

Date and Time: November 1-3 2000 8 A.M. to 5 P.M.

Place: National Science Foundation, 4201 Wilson Boulevard, Room 310, Arlington, Virginia 22230.

Type of Meeting: Closed.

Contact Person: Joanne Tornow, Program Director, or Susan Porter Ridley, Assistant Program Manager, of Biochemistry of Gene Expression, Molecular and Cellular Biosciences Division, National Science Foundation, 4201 Wilson Boulevard, Room 655, Arlington, Virginia 22230 (703) 292-8441.

Purpose of Meeting: To provide advice and recommendations concerning proposals submitted to NSF for financial support.

Agenda: To review and evaluate research proposals submitted to the Biochemistry of Gene Expression Program as part of the selection process for awards.

Reason for Closing: The proposals being reviewed include information of a proprietary or confidential nature, including, technical information; financial data, such as salaries and personal information concerning individuals associated with the proposals. These matters are exempt under 5 U.S.C. 552b(c), (4) and (6) of the Government in the Sunshine Act.

Dated: August 18, 2000.
Karen J. York,
Committee Management Officer.

[FR Doc. 00-21556 Filed 8-22-00; 8:45 am]

BILLING CODE 7555-01-M